NATIONAL AERONAUTICS AND SPACE ADMINISTRATION

[Notice 00-055]

NASA Advisory Council, Minority Business Resource Advisory Committee; Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Thursday, June 8, 2000, 9 a.m. to 4 p.m., and Friday, June 9, 2000, 9 a.m. to 12 noon.

ADDRESSES: NASA Headquarters, 300 E Street, SW, MIC-5, Washington, DC 20546-0001.

FOR FURTHER INFORMATION CONTACT: Mr. Ralph C. Thomas III, Code K, National Aeronautics and Space Administration, Room 9K70, 300 E Street, SW, Washington, DC 20546-0001, (202) 358-2088.

SUPPLEMENTARY INFORMATION: The meeting will be open to the public up to the seating capacity of the room. The agenda for the meeting is as follows:

—Best Practices on Teaming Agreements Report

—Small Disadvantaged Business Participation in Major NASA Contracts

—Report on ISO 9000 Status

—Action Items

—NASA Small Disadvantaged Business (SDB) Program Update

—Report of Chair

—Public Comment

—Report on New MBRAC Panels

—Report on NASA FY 2000 Small Business Office Priorities

It is imperative that the meeting be held on these dates to accommodate the scheduling priorities of the key participants. Visitors will be requested to sign a visitor's register.

Dated: May 17, 2000.
Matthew M. Crouch,
Advisory Committee Management Officer, National Aeronautics and Space Administration.

[FR Doc. 00-13351 Filed 5-26-00; 8:45 am]

BILLING CODE 7510-01-P